DEPARTMENT OF LABOR

Employment and Training Administration

[TA-W-39,783]

Plasticsource, Inc., Kelly Staff Leasing, Kelly Services, Inc., El Paso, TX; Amended Certification Regarding Eligibility To Apply for Worker Adjustment Assistance

In accordance with Section 223 of the Trade Act of 1974 (19 USC 2273) the U.S. Department Labor issued a Certification of Eligibility to Apply for Worker Adjustment Assistance on September 28, 2001, applicable to workers of PlasticSource, Inc. located in El Paso, Texas. The notice was published in the Federal Register on October 19, 2001 (66 FR 53251).

At the request of the State agency, the Department reviewed the certification for workers of the subject firm. Information provided by the State shows that temporary workers of Kelly Services, Inc. were employed at PlasticSource, Inc. to produce automotive headlamp parts and vacuum cleaner parts at the El Paso, Texas location of the subject firm.

Based on these findings, the Department is amending the certification to include temporary workers of Kelly Services, Inc. employed at PlasticSource, Inc., El Paso, Texas.

The intent of the Department's certification is to include all workers of PlasticSource, Inc. who were adversely affected by increased imports.

The amended notice applicable to TA-W-39,783 is hereby issued as follows:

All workers of PlasticSource, El Paso, Texas, and workers of Kelly Staff Leasing and Kelly Services, Inc. producing headlamp parts and vacuum cleaner parts at Plastic Source, El Paso, Texas, who became totally or partially separated from employment on or after July 26, 2000, through September 28, 2003, are eligible to apply for adjustment assistance under Section 223 of the Trade Act of 1974.

Signed at Washington DC this 9th day of July, 2002.
Linda G. Poole,
Certifying Officer, Division of Trade Adjustment Assistance.

[FR Doc. 02-18065 Filed 7-17-02; 8:45 am]

BILLING CODE 4510-30-P